DEPARTMENT OF TRANSPORTATION

Federal Transit Administration

Environmental Impact Statement for the Lake Tahoe Passenger Ferry Project, Placer and El Dorado Counties and City of South Lake Tahoe, California

AGENCY: Federal Transit Administration, DOT.

ACTION: Notice of Intent to Prepare an Environmental Impact Statement (EIS).

SUMMARY: The Federal Transit Administration (FTA) is issuing this Notice of Intent (NOT) to advise other agencies and the public that it will prepare an Environmental Impact Statement (EIS) for the proposed Lake Tahoe Passenger Ferry Project. The project consists of a cross-lake ferry service with a South Shore Ferry Terminal at the Ski Run Marina in South Lake Tahoe, El Dorado County, California, and a North Shore Ferry Terminal at the Grove Street Pier just west of the Tahoe City Marina in Tahoe City, Placer County, California. The project area encompasses the proposed ferry route on Lake Tahoe, the two ferry terminals, and a vessel assembly and maintenance location using existing facilities at Tahoe Keys Marina, City of South Lake Tahoe, El Dorado County, California. The EIS will evaluate alternatives to the proposed action, including, additional terminal locations, if they are adequate for operations.

The EIS will be prepared in accordance with the requirements of the National Environmental Policy Act (NEPA) and its implementing regulations with FTA as the lead agency. The EIS will be prepared as a joint document that includes an Environmental Impact Report (EIR) prepared pursuant to the California Environmental Quality Act (CEQA) with Tahoe Transportation District (TTD) as the CEQA lead agency, and an EIS for the Tahoe Regional Planning Agency (TRPA) prepared pursuant to the Tahoe Regional Planning Compact (Public Law 96-551), Code of Ordinances, and Rules of Procedure.

The purpose of this notice is to alert interested parties regarding the intent to prepare the EIS; to provide information on the nature of the proposed action and possible alternatives; to invite public participation in the EIS process, including providing comments on the scope of the Draft EIS/EIR/EIS; and to announce that public scoping meetings will be conducted.

DATES: Written comments on the scope of the EIS/EIR/EIS, including the project's purpose and need, the alternatives to be considered, the impacts to be evaluated, and the methodologies to be used in the evaluations should be sent to TTD on or before January 3, 2014 at the address below. See ADDRESSES below. Public scoping meetings to accept comments on the scope of the EIS/EIR/EIS will be held on the following dates:

• Wednesday, December 4, 2013; beginning at 9:30 a.m. at the TRPA Advisory Planning Commission Meeting at TRPA's offices at 128 Market Street, Stateline, NV 89449.

• Friday, December 13, 2013; beginning at 9:30 a.m. at the TTD Board Meeting at the Granlibaken Conference Center at 725 Granlibaken Road, Tahoe City, CA 96145.

The TRPA APC and TTD Board meetings will begin at 9:30 a.m.; however, scoping for the proposed project is not time certain. Please refer to the agendas posted at www.tahoetransportation.org and www.trpa.org no more than one week prior to the meetings for updated information.

The locations are accessible to persons with disabilities. Any individual who requires special assistance, such as a language interpreter, to participate in the scoping meetings should contact Alfred Knotts with TTD at least three days prior to the meetings at (775) 589-5503 or aknotts@tahoetransportation.org.

Scoping materials will be available at the meetings and are available on the TTD Web site (http://tahoetransportation.org/current-capital-projects/lake-tahoe-passenger-ferry-alternatives-analysis). Paper copies of the scoping materials may also be obtained from Alfred Knotts with TTD at (775) 589-5503 or aknotts@tahoetransportation.org. Representatives of Native American tribal governments and of all federal, state, regional and local agencies that may have an interest in any aspect of the project will be invited to be participating or cooperating agencies, as appropriate.

ADDRESSES: Comments will be accepted at the public scoping meetings or they may be sent to Mr. Alfred Knotts, Project Manager, Tahoe Transportation District, P.O. Box 499, Zephyr Cove, NV 89449, or via email at aknotts@tahoetransportation.org.

FOR FURTHER INFORMATION CONTACT: Ted Matley, Community Planner, Region IX Office, Federal Transit Administration, 201 Mission Street, Suite 1650, San Francisco, CA 94015, phone (415) 744-2590, or via email at ted.matley@dot.gov.

SUPPLEMENTARY INFORMATION:

Scoping

Scoping is the process of determining the scope, focus, and content of an EIS. FTA, TTD, and TRPA invite all interested individuals and organizations, public agencies, and Native American tribes to comment on the scope of the Draft EIS/EIR/EIS. Comments should focus on: alternatives that may be less costly or have less environmental or community impact, while achieving similar transportation objectives and the identification of any significant social, economic, or environmental issues relating to the alternatives that should be addressed in the Draft EIS/EIR/EIS.

NEPA “scoping” has specific and fairly limited objectives: to identify the significant environmental issues associated with alternatives to be examined in detail, while also limiting consideration of issues that are not truly significant. It is in the NEPA scoping process that potentially significant environmental impacts, which give rise to the need to prepare an EIS, should be identified. Transit projects may also generate environmental benefits that should also be discussed.

In the interest of producing a readable and user-friendly public document, and pursuant to Title 40 of the Code of Federal Regulations (CFR) § 1502.07 and § 1502.10, the EIS/EIR/EIS shall be clear and concise and limited to 300 pages to the extent feasible recognizing CEQA and TRPA requirements. The EIS/EIR/EIS technical appendices shall be included in a separate volume.

Purpose and Need for the Project

A public transit project connecting the north and south shores of Lake Tahoe is needed for environmental and mobility reasons. The Lake Tahoe Region has seven points of entry, all served by state or federal highways. Access around the Lake is provided by state or federal highways with much of the route limited to winding, two-lane roadways with changing and often steep grades. During summer and winter months, heavy traffic congestion and rugged mountain terrain can make traveling around the Lake slow and difficult, particularly driving between the north and south shores on the narrow, winding highways. During the winter season traveling these routes can be hazardous as a result of snow and ice on the roadways. Routes can also be restricted in winter to vehicles with only four-wheel drive or closed all together due to avalanche control.

There is no current fixed-schedule, cross-region, public transit service between the north and south shores, so all travel must occur by automobile or other personal motor vehicles. Currently, seasonal water taxi service is available from Tahoe City south to Homewood and north to Carnelian Bay. A south shore water taxi operates between Camp Richardson Resort and Lakeside Marina; however, it does not stop at Ski Run Marina. The absence of a north-south, public transit connection across the region results in added traffic congestion, substantial vehicle miles travelled and attendant criteria air pollutant and greenhouse gas (GHG) emissions, and limited transportation options for transit-dependent populations and visitors to the Region. Substantial motor vehicle air pollutant emissions in the Region also contribute to diminished water quality and clarity in Lake Tahoe.

The purpose of the Lake Tahoe Passenger Ferry Project is to support regional goals and planning mandates by: providing a multi-modal transportation alternative and promoting smart growth; enhancing transportation and regional mobility with a safe, reliable, year-round transit service between the north and south shores; reducing vehicle miles traveled and GHG emissions; improving and maintaining air and water quality; and promoting livability and connectivity within the Tahoe Region. Development of the proposed project would help reduce regional automobile travel, alleviate roadway congestion, and provide a safe, convenient, and affordable alternative for traveling between the north and south shores of Lake Tahoe.

Project Location and Environmental Setting

The proposed action would include development of a South Shore Ferry Terminal at the Ski Run Marina in the City of South Lake Tahoe and a North Shore Ferry Terminal at the Grove Street Pier at the end of Grove Street in Tahoe City. A network of shared-use paths, sidewalks, and bicycle lanes exist near both proposed terminal locations. A brief description of the existing facilities and surrounding land uses is provided below.

Ski Run Marina is a privately-owned marina located at the northern end of Ski Run Boulevard in the City of South Lake Tahoe. The marina includes two connected fixed piers. The piers extend approximately 120 feet and 65 feet from the shore of Lake Tahoe. The Tahoe Queen, a paddle-wheel touring vessel, docks on the westernmost of the two piers. Street access to the terminal site is provided by Ski Run Boulevard and US 50. Existing non-motorized access to Ski Run Marina includes a shared-use path that runs parallel to US 50 on the north side of the highway and on both sides of Ski Run Boulevard. Transit access is provided year-round by the South Shore bus service along US 50, which provides service from the south shore “Y” in the City of South Lake Tahoe to Stateline, Nevada with connections to the Emerald Bay trolley (providing seasonal service from the “Y” to Tahoe City) and the Lake Valley Express (Stateline to the Carson Valley communities of Carson City, Minden, and Gardnerville in Nevada).

Surrounding land uses include Ski Run Marina Village (a collection of shops and restaurants), Tahoe Beach & Ski and Lake Tahoe Vacation Resort (timeshare accommodations), Tahoe Meadows (an approximately 100 acre private residential community listed on the National Register of Historic Places), Ski Run Boulevard commercial district, Heavenly Mountain Resort at the end of Ski Run Boulevard, and numerous business establishments along US 50.

The Grove Street Pier is a privately-owned pier located just west of the Tahoe City Marina and approximately 0.5 mile east of the intersection of SR 89 and SR 28, known as the “Y”. The existing Grove Street Pier is a fixed pier that is approximately 400 feet long and 8 feet wide. Surrounding land uses include Commons Beach (a 4-acre park and beach area), the Lakeside Bicycle Trail, the Tahoe City Marina, Safeway, the Marina Mall, the Boatworks Mall, and business establishments along SR 28 within the commercial corridor of Tahoe City. Tahoe Area Regional Transit (TART) operates a local, year-round bus service along SR 28, which provides service between Tahoe City and Truckee and to Lake Tahoe communities from Tahoma to Incline Village. The recently completed Tahoe City Transit Center is west of the pier. Tahoe City has the largest population of the California communities on the north shore of Lake Tahoe and provides access to nearby ski resorts, including Squaw Valley USA, Alpine Meadows Resort, Homewood Mountain Resort, Northstar, Sugar Bowl, and other smaller resorts.

Proposed Alternatives

The TTD conducted an Alternatives Analysis (AA) to evaluate the costs, benefits, and impacts of a range of transportation alternatives to address north-south mobility within the Lake Tahoe Basin. A copy of the AA is available on TTD's Web site at http://tahoetransportation.org/current-capital-projects/lake-tahoe-passenger-ferry-alternatives-analysis. Ten alternatives were evaluated in the AA. The alternatives included four with ferry service only, two with bus service only, and four hybrid alternatives with a combination of bus and ferry service. The AA was approved by the TTD Board on December 9, 2012. The proposed action reflects the locally preferred alternative (LPA) adopted by the TTD Board on April 13, 2012. The alternatives being evaluated include:

No Project Alternative: Under the No Project Alternative, no ferry terminals would be developed and year-round transit service between the north and south shores would not occur.

Proposed Action: Ferry service would be provided year-round, with a travel time of approximately 25 minutes between terminals and hourly headways (i.e., the length of time between departures). Projected daily ridership is estimated to be between 1,600 to 1,800 passengers, using two ferry vessels. Limited parking for ferry passengers would be provided at or near the terminals. Passengers would also be encouraged to use existing public transit and/or pedestrian and bicycle facilities to access the terminals.

The proposed ferry vessels would be catamarans (a vessel with two parallel hulls) with a passenger capacity of up to 150 persons. The vessel currently under consideration would provide space for bicycles. The passenger ferry, Rich Passage I, used for service between Seattle and Bremerton in Washington, is representative of the type of vessel proposed for the Lake Tahoe Passenger Ferry Project. The vessels would be assembled at a site within the Tahoe Keys Marina in the City of South Lake Tahoe.

Vessel maintenance would also occur at the Tahoe Keys Marina using existing dry-dock and other facilities. Some required maintenance inspections could take place in the water. The Tahoe Keys Marina already provides maintenance services to vessels of a similar size (such as, The Safari Rose, an 80-foot vessel, and the Woodwind II).

Refueling of the ferry vessels would occur by truck or would require development of fueling facilities or improvement of existing fueling infrastructure at the identified ferry terminals.

Modifications to the existing piers would involve increasing the length of the piers, adding ramped access that meets Americans with Disability Act (ADA) standards, and constructing a floating pier platform that would be long enough to accommodate the ferry and at least 16 feet in width. The area surrounding the proposed pier expansions and floating platforms would require dredging for construction and maintenance dredging to provide sufficient depth during low-lake-level periods. The security requirements at each ferry terminal would likely include fencing, gates, security cameras, lighting, and alarms

Alternatives: Action alternatives that may be considered could include alternative pier designs (such as, a fixed versus floating pier), landside facility configurations, vessel sizes, operational characteristics (such as, service frequency), terminal locations, and/or assembly and maintenance sites. Other reasonable alternatives identified through the public and agency scoping process will be evaluated for potential inclusion in the Draft EIS/EIR/EIS.

Probable Effects

The purpose of this EIS/EIR/EIS is to study, in a public setting, the effects of the proposed action and its alternatives on the physical, human, and natural environment. The FTA, TTD, and TRPA will evaluate all significant environmental, social, and economic impacts of the construction and operation of the proposed project. The probable impacts will be determined as a part of the project scoping. Measures to avoid, minimize, and mitigate adverse impacts will also be identified and evaluated.

FTA Procedures

The regulations implementing NEPA call for public involvement in the EIS process. FTA is required by 23 U.S.C. § 139 to do the following: (1) extend an invitation to other federal and non-federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other federal and non-federal agencies and Native American tribes that may have an interest in the proposed project. It is possible that FTA will not be able to identify all federal and non-federal agencies and Native American tribes that may have such an interest. Any federal or non-federal agency or Native American tribe interested in the proposed project that does not receive an invitation to become a participating agency should notify at the earliest opportunity the Project Manager identified above under ADDRESSES.

A comprehensive public involvement program and a Coordination Plan for public and interagency involvement will be developed for the project and posted by TTD on the project Web site (http://tahoetransportation.org/current-capital-projects/lake-tahoe-passenger-ferry-alternatives-analysis). The public involvement program includes a full range of activities including a public scoping process to define the issues of concern, a project Web page on the TTD Web site, and outreach to local officials, community and civic groups, and the public. Specific activities or events for involvement will be detailed in the public involvement program.

FTA will comply with all applicable Federal environmental laws, regulations, and executive orders during the environmental review process. These requirements include, but are not limited to, the project-level air quality conformity regulation of the U.S. Environmental Protection Agency (EPA) (40 CFR part 93); the § 404(b)(1) guidelines of EPA (40 CFR part 230); the regulation implementing EPA's Anti-degradation Policy (40 CFR 131.12) for Outstanding National Resource Waters, such as Lake Tahoe; the regulations implementing Section 106 of the National Historic Preservation Act (36 CFR part 800), Section 7 of the Endangered Species Act (50 CFR part 402), and Section 4(1) of the Department of Transportation Act (23 CFR part 774); and, Executive Orders 12898 on environmental justice, 11988 on floodplain management, 11990 on wetlands, 13175 on Indian trust assets and Native American consultation, 13112 on invasive species, and 12962 on recreational fisheries.

Dated: November 19, 2013.
Leslie T. Rogers,
Regional Administrator Regional IX, Federal Transit Administration.

[FR Doc. 2013-28352 Filed 11-26-13; 8:45 am]

BILLING CODE M